DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for projects in the following locations: Los Angeles, CA; Grand Rapids, Wyoming, and Kentwood, Kent County, MI; New York, NY; Milwaukee, WI; and Anaheim, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before August 6, 2012.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: Crenshaw/LAX Transit Corridor Project, Los Angeles County, CA. Project sponsor: Los Angeles County Metropolitan Transportation Authority (LACMTA). Project description: The project is an 8.5-mile fixed guideway rail system that extends from the Metro Green Line Aviation/Los Angeles International Airport (LAX) Station to the Exposition light rail transit line at the Exposition/Crenshaw Boulevards intersection. The project includes six transit stations, a vehicle maintenance storage facility near Arbor Vitae Street and Bellanca Avenue, park-and-ride lots at the Florence/La Brea, Florence/West and Crenshaw/Exposition Stations, traction power substations, and the acquisition of rail vehicles and maintenance equipment. The project includes a Crenshaw/Vernon optional station, which may be implemented if bids for the project fall within the project funding amount. Final agency actions: Determination of de minimis impact to one Section 4(f) resource; Section 106 finding of no adverse effect; project-level air quality conformity; and Record of Decision (ROD), dated December 2011. Supporting documentation: Final Environmental Impact Statement, dated August 2011.

2. Project name and location: Silver Line Bus Rapid Transit Project, Cities of Grand Rapids, Wyoming, and Kentwood, Kent County, MI. Project sponsor: Interurban Transit Partnership (The Rapid). Project description: The project is a proposed north-south bus rapid transit system (BRT) that connects Downtown Grand Rapids with the cities of Wyoming and Kentwood. The proposed alignment for the Silver Line BRT extends 9.6 miles from the Rapid Central Station on the periphery of the Grand Rapids Central Business District south to 60th Street within the cities of Wyoming and Kentwood. Final agency actions: No use of Section 4(f) resources; Section 106 finding of no adverse effect; project-level air quality conformity; and Finding of No Significant Impact (FONSI), dated July 2011. Supporting documentation: Environmental Assessment, dated January 2011.

3. Project name and location: Second Avenue Subway, New York, NY. Project sponsor: Metropolitan Transportation Authority. Project description: The Second Avenue Subway project is the phased construction of a new 8.5-mile subway line under Second Avenue in Manhattan from 125th Street to Hanover Square in Lower Manhattan. It includes 16 new stations that will be accessible by persons with disabilities. FTA has agreed to partially fund the first phase of the project, which will run between 105th Street and 62nd Street and will connect to the existing F Line at 63rd Street. Various changes to Phase 1 of the project, as well as final design of certain elements of Phase 1, have been evaluated in a number of technical memoranda. Final agency actions: FTA determination that neither a supplemental environmental impact statement nor a supplemental environmental assessment is necessary. Supporting documentation: Technical Memorandum No. 10, documenting FTA's analysis of the potential impact of a proposed revision to the mitigation measure for three historic resources: (1) 215 East 68th Street; (2) 252 East 72nd Street; and (3) 230 East 73rd Street, dated December 2011.

4. Project name and location: The Milwaukee Streetcar, City of Milwaukee, Milwaukee County, WI. Project sponsor: City of Milwaukee. Project description: The initial system for the streetcar route is 2.0 miles. The project will provide streetcar service from the Milwaukee Intermodal Station on St. Paul Avenue, through downtown to Ogden Street on the City's northeast side. Proposed route extensions could expand the system north along 4th Street on the west side of the Milwaukee River and along the Prospect and Farwell corridors to the Brady Street area. Final agency actions: No use of Section 4(f) resources; Section 106 finding of no adverse effect; project-level air quality conformity; and Finding of No Significant Impact (FONSI), dated January 2012. Supporting documentation: Environmental Assessment, dated October 2011.

5. Project name and location: Anaheim Regional Transportation Intermodal Center, City of Anaheim, Orange County, CA. Project sponsor: Orange County Transportation Authority. Project description: The Orange County Transportation Authority (OCTA), in partnership with the City of Anaheim is proposing to relocate the existing Anaheim Metrolink/Amtrak Station. The proposed new location for the Anaheim Regional Transportation Intermodal Center (ARTIC) is an approximately 19-acre site in the City of Anaheim, along the existing OCTA railroad right-of-way. The ARTIC will include an intermodal terminal, public plaza drop-off area, stadium pavilion, track and platforms, road improvements, surface parking, and surface access. A pedestrian bridge will be built for crossing Katella Avenue between the project and Honda Center. Final agency actions: No use of Section 4(f) resources; Section 106 finding of no adverse effect; project-level air quality conformity; and Finding of No Significant Impact (FONSI), dated January 2012. Supporting documentation: Environmental Assessment, dated September 2011.

Issued on: February 3, 2012.
Lucy Garliauskas,
Associate Administrator for Planning and Environment, Washington, DC.

[FR Doc. 2012-2901 Filed 2-7-12; 8:45 am]

BILLING CODE: P